DEPARTMENT OF THE INTERIOR

Bureau of Land Management

[BLM_HQ_FRN_MO4500176406]

Notice of Availability of the Final Programmatic Environmental Impact Statement for Approval of Herbicide Active Ingredients for Use on Public Lands

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the final Environmental Impact Statement (EIS) for the Approval of Herbicide Active Ingredients for Use on Public Lands.

DATES: The BLM will not issue a decision on the proposal for a minimum of 30 days after the date that the Environmental Protection Agency (EPA) publishes its Notice of Availability (NOA) in the Federal Register. The EPA usually publishes its NOAs on Fridays.

ADDRESSES: The final EIS and documents pertinent to this proposal are available for review on the BLM ePlanning project website at https://go.usa.gov/xtk6a.

FOR FURTHER INFORMATION CONTACT: Seth Flanigan, Project Manager, telephone: 208-373-4094; email: sflanigan@blm.gov. Individuals in the United States who are deaf, deafblind, hard of hearing, or have a speech disability may dial 711 (TTY, TDD, or TeleBraille) to access telecommunications relay services for contacting Mr. Flanigan. Individuals outside the United States should use the relay services offered within their country to make international calls to the point-of-contact in the United States.

SUPPLEMENTARY INFORMATION: This document provides notice that the BLM has prepared a final programmatic EIS for a review of active ingredients that may be approved for use in vegetation treatments on BLM-managed public lands.

Purpose and Need for the Proposed Action

The BLM's purpose and need is to improve the effectiveness of its invasive plant management efforts by allowing the use of EPA-registered active ingredients not currently authorized for use on BLM public lands. Approving additional active ingredients would diversify the BLM's herbicide treatment options and help meet the purposes that were first identified in the 2007 and 2016 programmatic EISs related to vegetation treatments, which are to make herbicides available for vegetation treatment on public lands and to describe the stipulations that apply to their use.

Proposed Action and Alternatives

The proposed action is to approve the following herbicide active ingredients for use in vegetation treatments on public lands: aminocyclopyrachlor, clethodim, fluozifop-p-butyl, flumioxazin, imazamox, indaziflam, and oryzalin. These active ingredients are registered by the EPA. As part of the process for evaluating whether to approve these active ingredients, the BLM will adopt and depend on Human Health and Ecological Risk Assessments prepared by the U.S. Forest Service.

Schedule for the Decision-Making Process

The BLM anticipates releasing a Record of Decision in January 2024.

Responsible Official

Assistant Director for Resources and Planning.

Nature of Decision To Be Made

Through this process, the BLM will decide whether to approve the seven additional herbicide active ingredients identified earlier for use on BLM-managed public lands. This decision will be based on the best available science and current needs for vegetation management. Any authorization to apply any of these active ingredients at a particular site will be made through a separate, site-specific decision and so is not within the scope of the programmatic EIS or potential decision described in this notice.

Public Participation

In addition to making the draft programmatic EIS available for public comment and review, the BLM hosted a virtual public meeting during the public comment period. The agency received 46 comments, which were incorporated in the final programmatic EIS as appropriate. In coordination with comments received from Native American Tribes, the BLM emphasizes, in the EIS, the need to coordinate with local Tribes during implementation-level analyses and authorizations to reduce and avoid impacts to Tribes that may gather and use native plant materials for cultural or subsistence purposes.

Comments on the draft EIS received from the public and from internal BLM review were considered and incorporated as appropriate into the final EIS. These comments resulted in the addition of clarifying text but did not significantly change the impact analysis.

(Authority: 40 CFR 1506.6, 40 CFR 1506.10)

Brian St George,
Acting Assistant Director for Resources and Planning.

[FR Doc. 2023-28673 Filed 12-28-23; 8:45 am]

BILLING CODE 4331-27-P